DEPARTMENT OF HEALTH AND HUMAN SERVICES

42 CFR Part 84

[Docket Number NIOSH-109]

RIN 0920-AA04

Quality Assurance Requirements for Respirators

AGENCY: Centers for Disease Control and Prevention, HHS.

ACTION: Notice of proposed rulemaking; reopening of comment period.

SUMMARY: The Department of Health and Human Services (DHHS) is reopening the comment period until October 9, 2009 for the Notice of Proposed Rulemaking on Quality Assurance Requirements for Respirators that was published in the Federal Register on Wednesday, December 10, 2008 (73 FR 75045). The comment period previously closed on April 10, 2009.

DATES: All written comments on the proposed rule must be received on or before October 9, 2009.

ADDRESSES: You may submit comments, identified by RIN: 0920-AA04, by any of the following methods:

• Federal eRulemaking Portal: http://www.regulations.gov. Follow the instructions for submitting comments.

• E-mail: niocindocket@cdc.gov. Include “RIN: 0920-AA04” and “42 CFR pt. 84” in the subject line of the message.

• Mail: NIOSH Docket Office, Docket #109, Robert A. Taft Laboratories, MS-C34, 4676 Columbia Parkway, Cincinnati, OH 45226.

Instructions: All submissions received must include the agency name and docket number or Regulatory Information Number (RIN) for this rulemaking, RIN: 0920-AA04. All comments received will be posted without change to http://www.cdc.gov/niosh/docket, including any personal information provided.

Docket: For access to the docket to read background documents or comments received, go to http://www.cdc.gov/niosh/docket.

FOR FURTHER INFORMATION CONTACT: Jonathan V. Szalajda, NIOSH, National Personal Protective Technology Laboratory (NPPTL), Post Office Box 18070, 626 Cochrans Mill Road, Pittsburgh, Pennsylvania 15236, telephone (412) 386-5200, facsimile (412) 386-4089, e-mail zfx1@cdc.gov.

SUPPLEMENTARY INFORMATION: The Department of Health and Human Services published a proposed rule on the Quality Assurance Requirements for Respirators on December 10, 2008 and requested comments on this proposed rule on or before February 9, 2009 (73 FR 75045). On March 4, 2009, the Department announced two public meetings and reopened the comment period for the proposed rule until April 10, 2009 (74 FR 9381). The Department held the two public meetings on March 23, 2009 and March 30, 2009. A commenter requested that the Department extend the public comment period, noting that the costs associated with the proposed QA requirements related to inspections, audits, documentation, complaint management, and document control administration are significant. The Department believes that the request to re-open the comment period is reasonable. Therefore, we are reopening the comment period for this proposal until October 9, 2009.

Dated: May 15, 2009.
Ashley Files Flory,
Acting Executive Secretary to the Department.

[FR Doc. E9-11947 Filed 5-20-09; 8:45 am]

BILLING CODE 4163-18-P